DEPARTMENT OF ENERGY

Federal Energy Regulatory Commission

[Docket No. QF06-346-000]

Newark America; Notice of Filing of Notice of Self-Certification of Qualifying Status of a Cogeneration Facility

May 18, 2007.

Take notice that on September 19, 2006, Newark America, 100 Newark Way, Fitchburg, MA 01420 filed with the Federal Energy Regulatory Commission a notice of self-certification of a facility as a qualifying cogeneration facility pursuant to 18 CFR. 292.207(a) of the Commission's regulations.

The Facility is a recycled paperboard manufacturing plant. The facility is installing a topping cycle steam turbine to convert its current steam production facilities to a Cogeneration Facility. The primary energy source used by the facility is and will continue to be natural gas with No.2 distillate fuel oil as the backup fuel. The nameplate capacity of non-fired General Electric Steam Turbine Generator being installed is 6.25MW. The facility is located in Worcester county of Massachusetts at 100 Newark Way, Fitchburg, MA 01420.

The facility will interconnect to Unitil (Fitchburg Gas and Electric). The Newark America manufacturing facility currently receives delivery service for electrical energy under current applicable Fitchburg Gas and Electric industrial electric rate tariffs on file with the Massachusetts Department of Telecommunications and Energy (DTE) and expects to continue to receive service under the these tariffs.

A notice of self-certification does not institute a proceeding regarding qualifying facility status; a notice of self-certification provides notice that the entity making filing has determined the Facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-9980 Filed 5-23-07; 8:45 am]

BILLING CODE 6717-01-P